ENVIRONMENTAL PROTECTION AGENCY

40 CFR Part 156

[EPA-HQ-OPP-2009-0635; FRL-8813-3]

Public Availability of Identities of Inert Ingredients in Pesticides; Extension of Comment Period

AGENCY: Environmental Protection Agency (EPA).

ACTION: Advance notice of proposed rulemaking (ANPRM); extension of comment period.

SUMMARY: EPA issued an ANPRM in the Federal Register of December 23, 2009, concerning the initiation of rulemaking to increase public availability of the identities of the inert ingredients in pesticide products. Two requests for a 90-day extension of the comment period were submitted by the Responsible Industry for a Sound Environment and Syngenta Crop Protection, Inc. Based on these requests, EPA is extending the comment period for 60 days, from February 22, 2010, to April 23, 2010.

DATES: Comments, identified by docket identification (ID) number EPA-HQ-OPP-2009-0635, must be received on or before April 23, 2010.

ADDRESSES: Follow the detailed instructions as provided under ADDRESSES in the Federal Register document of December 23, 2009.

FOR FURTHER INFORMATION CONTACT: Kerry B. Leifer, Registration Division (7505P), Office of Pesticide Programs, Environmental Protection Agency, 1200 Pennsylvania Ave., NW., Washington, DC 20460-0001; telephone number: (703) 308-8811; e-mail address: leifer.kerry@epa.gov.

SUPPLEMENTARY INFORMATION: EPA is extending for 60 days the comment period on the initiation of rulemaking to increase public availability of the identities of the inert ingredients in pesticide products. Two requests for a 90-day extension of the comment period were submitted by the Responsible Industry for a Sound Environment and Syngenta Crop Protection, Inc. Both of these requests are in docket EPA-HQ-OPP-2009-0635, accessible via http://www.regulations.gov. This document extends the public comment period established in the Federal Register of December 23, 2009 (74 FR 68215) (FRL- 8803-3). In that document, EPA proposed to initiate rulemaking to increase public availability of the identities of the inert ingredients in pesticide products. EPA is hereby extending the comment period, which was set to end on February 22, 2010, to April 23, 2010.

To submit comments, or access the docket, please follow the detailed instructions as provided under ADDRESSES in the December 23, 2009 Federal Register document. If you have questions, consult the person listed under FOR FURTHER INFORMATION CONTACT.

List of Subjects in 40 CFR Part 156

Environmental protection, Pesticides and pests.

Dated: February 16, 2010.
James Jones,
Acting Assistant Administrator, Office of Prevention, Pesticides and Toxic Substances.

[FR Doc. 2010-3415 Filed 2-19-10; 8:45 am]

BILLING CODE 6560-50-S